DEPARTMENT OF COMMERCE

National Oceanic and Atmospheric Administration

[I.D. 110104A]

Taking and Importing Marine Mammals; Taking Marine Mammals Incidental to Construction and Operation of Offshore Oil and Gas Facilities in the Beaufort Sea

AGENCY: National Marine Fisheries Service (NMFS), National Oceanic and Atmospheric Administration (NOAA), Commerce.

ACTION: Notice of issuance of a letter of authorization.

SUMMARY: In accordance with the Marine Mammal Protection Act (MMPA), as amended, and implementing regulations, notice is hereby given that NMFS has issued a letter of authorization (LOA) to BP Exploration (Alaska), Inc. (BP) to take marine mammals incidental to the production of offshore oil and gas at the Northstar development in the Beaufort Sea off Alaska.

DATES: This LOA is effective from December 6, 2004, through May 25, 2005.

ADDRESSES: A copy of BP's letter, a list of monitoring reports, and/or the LOA may be obtained by writing to the Office of Protected Resources, NMFS, 1315 East-West Highway, Silver Spring, MD 20910, or by telephoning one of the contacts listed here.

FOR FURTHER INFORMATION CONTACT: Kenneth R. Hollingshead (301) 713-2055, ext. 128, or Bradley Smith (907) 271-5006.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “take” means to harass, hunt, capture, or kill or to attempt to harass, hunt, capture or kill marine mammals.

Permission may be granted for periods up to 5 years if NMFS finds, after notice and opportunity for public comment, that the taking will have a negligible impact on the species or stock(s) of marine mammals, and will not have an unmitigable adverse impact on the availability of the species or stock(s) of marine mammals for subsistence uses. In addition, NMFS must prescribe regulations setting forth the permissible methods of taking and other means of effecting the least practicable adverse impact on the species and its habitat, and on the availability of the species for subsistence uses. The regulations also must include requirements pertaining to the monitoring and reporting of such taking. Regulations governing the taking of marine mammals incidental to construction and operation of the offshore oil and gas facility at Northstar in the Beaufort Sea were published and made effective on May 25, 2000 (65 FR 34014), and remain in effect until May 25, 2005. These regulations include mitigation, monitoring, and reporting requirements.

Summary of Request

On October 19, 2004, NMFS received a request from BP for a renewal of an LOA issued on September 18, 2000 (65 FR 58265, September 28, 2000) and reissued on December 14, 2001 (66 FR 65923, December 21, 2001), December 9, 2002 (67 FR 77750, December 19, 2002) and December 4, 2003 (68 FR 68874, December 10, 2003) for the taking of marine mammals incidental to oil production operations at Northstar, under section 101(a)(5)(A) of the MMPA. This latest request (BP, 2004) contains information in compliance with 50 CFR 216.209, which updates information provided in BP's original application for takings incidental to construction and operations at Northstar. The 2003/2004 LOA for the taking of marine mammals incidental to oil production at the Northstar facility will expire on December 3, 2004. This current LOA is effective through May 25, 2005, when the implementing regulations expire. A request for LOAs after May 25, 2005 is the subject of a separate rulemaking action (see 69 FR 56995, September 23, 2004).

Background

BP is currently producing crude oil from the Nortstar facility in the U.S. Beaufort Sea and is injecting the natural gas into the formations. Northstar includes a gravel island work surface to support the main facilities required for drilling and oil production, and two pipelines connecting the island to the existing infrastructure in Prudhoe Bay. One pipeline transports crude oil to shore, and the other transports natural gas to the island for field injection. Oil production began in late 2001 and is ongoing. Activities under the LOA will include: (1) winter ice-road construction, (2) winter ice road traffic, (3) Northstar oil production activities, (4) environmental compliance monitoring, and (5) helicopter, hovercraft, tugboat and barge transportation of personnel, equipment and supplies.

Impacts on marine mammals at the Northstar facility may occur through noise from tugs, barges, helicopters and hovercraft traffic, and drilling and other noise sources on the island facility. Impacts may also result if there is an oil spill resulting from production. While noise impacts on marine mammals will be low (activities on Northstar Island will make less noise than that from standard jack-up rigs, a concrete island drilling structure, or seismic activity), bowhead whales will likely hear the noise at distances up to 10 km (6.2 mi) from the island. In addition, there may be some harassment, injury, or mortality of ringed seals during winter ice-road construction. In 2000 (65 FR 58265, September 28, 2000) and 2001 (66 FR 65923, December 21, 2001), NMFS estimated that noise impacts may result in Level B harassment of approximately 765 bowheads (i.e., the LOA authorizes up to 765 bowheads annually, with a maximum of 1,533 in 2 out of 5 seasons, and a total of 3,585 in 5 years), 5 gray whales and 91 beluga whales. However, since this LOA is effective only through May 25, 2004, no bowhead, gray or beluga whales are expected to be harassed.

Year-round operations at Northstar may result in the harassment of up to approximately 191 ringed seals, 10 bearded seals, and 5 spotted seals being harassed and the incidental mortality of up to 5 ringed seal pups. No take is authorized for an oil spill. NMFS and BP believe that these estimates remain conservative since, for example, monitoring between November, 2001 and October, 2002 indicate that approximately 110 ringed seals, 1 bearded seal and 10-20 beluga whales were present in the area and potentially may have been affected (Moulton et al., 2003). MacLean and Williams (2003) and Moulton et al. (2003) indicate that Northstar production probably had little or no effect on most of the seals and no seals were injured or killed by activities along the ice road or operations at Northstar during the 2002/2003 or 2003/2004 ice-covered seasons.

Monitoring and Reporting

Monitoring and reporting requirements contained in the Northstar regulations (50 CFR 216.206) and described in the Federal Register (65 FR 34014, May 25, 2000). Additional information was provided on December 21, 2001 (66 FR 65923), when NMFS issued an LOA to BP for oil production at Northstar. Monitoring reports are submitted annually as required by the regulations, and the LOA, and plans and reports are peer-reviewed as required regulations. A list of these reports is available upon request (see ADDRESSES). Recent peer-review meetings were held in June 2003, in Seattle, WA and in August, 2004 in Anchorage, AK. The August, 2004 meeting confirmed continued efforts begun in 2003 to convene an independent technical peer-review committee under the auspices of the North Slope Borough's Science Advisory Committee. The next open-water peer-review meeting is planned for May, 2005 in Anchorage, AK. In accordance with the original marine mammal monitoring plan, BP plans to continue monitoring in the winter/early spring 2005 for those tasks that have not been completed.

Determinations

Accordingly, NMFS issued an LOA to BPXA on December 6, 2004, authorizing the taking of marine mammals incidental to oil production operations at the Northstar offshore oil and gas facility in state and federal waters in the U.S. Beaufort Sea until May 25, 2005. Issuance is based on findings, described in the preamble to the final rule (65 FR 34014, May 25, 2000), that the activities described in the LOA will result in the taking of no more than small numbers of ringed seals, and possibly bearded seals and spotted seals, and that the total taking will have a negligible impact on these marine mammal stocks and would not have an unmitigable adverse impact on the availability of these species or stocks for taking for subsistence uses. NMFS also prescribed the means for effecting the least practicable adverse impact on these stocks. As the results from the monitoring program carried out since 1999 have indicated that the determinations made in 2000 and 2001 were not in error, the estimated levels of incidental harassment have not been exceeded, and as the activity that was reviewed in 2001 (oil production activities) has not changed, these determinations remain valid.

Dated: December 6, 2004.
Laurie K. Allen,
Director, Office of Protected Resources, National Marine Fisheries Service.

[FR Doc. 04-27180 Filed 12-9-04; 8:45 am]

BILLING CODE 3510-22-S